FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Perfect International Service, 817 Torrance Blvd., #137, Redondo Beach, CA 90277, Lili Gu, Sole Proprietor.

Belstarr International Corp. dba Shipmate, 110-15 71 Road, Unit 1M, Forest Hills, NY 11375, Officer: Clint A. Cabuguas, President (Qualifying Individual).

Affiliated Customs Brokers Ltd., 411 Des Recollets, Montreal, Quebec H2Y 1W3, Officers: Gilles Remillard, President, (Qualifying Individual), Josee Remillard, Vice President.

World Cargo Transport, Inc., 17 Jessica Lane, No. Brunswick, NJ 08902, Officer: William Roach, President (Qualifying Individual).

Non-Vessel Operating Common Carrier and Ocean Freight Forwarder Transportation Intermediary Applicants

Kelly Group Enterprises Corp., 7812 N.W. 46 Street, Miami, FL 33166, Officer: Oscar Leon, President (Qualifying Individual).

Global Logistics & Customs of Charleston, Inc., 925 Trowman Lane, Mt. Pleasant, SC 29464, Officer: Richard H. Simpson, President (Qualifying Individual).

J.D.S. Freight Consolidators, 8612 N.W. 66 Street, Miami, FL 33166, Officer: Bissoondaye Bachoo (Qualifying Individual).

Ocean Freight Forwarder—Ocean Transportation Intermediary Applicants

Overseas Shipping Inc., 7021 Grand National Dr., #110, Orlando, FL 32819, Officer: Kaaren Kazma, Manager (Qualifying Individual).

International Shipping Link, Inc., 2418 W. Devon Avenue, Chicago, IL 60659, Officer: Tariq Shahzad, President (Qualifying Individual).

Dated: September 13, 2002.
Theodore A. Zook,
Assistant Secretary.

[FR Doc. 02-23726 Filed 9-17-02; 8:45 am]

BILLING CODE 6730-01-P